DEPARTMENT OF HOMELAND SECURITY

Transportation Security Administration

[Docket No. TSA-2018-0001]

Surface Transportation Security Advisory Committee; Meeting

AGENCY: Transportation Security Administration, Department of Homeland Security.

ACTION: Committee management; Notice of open Federal advisory committee meeting.

SUMMARY: The Transportation Security Administration (TSA) will hold a meeting of the Surface Transportation Security Advisory Committee (STSAC) on November 21, 2024. Members of the public will be able to participate virtually via Microsoft Teams. The meeting agenda and information on public participation is provided below under the SUPPLEMENTARY INFORMATION section.

DATES: The meeting will take place on Thursday, November 21, 2024. The meeting will begin at 1:00 p.m. and will adjourn at 4:00 p.m. Eastern Standard Time (EST). As listed in the Public Participation section below, requests to attend the meeting, to address the STSAC, and/or for accommodations because of a disability, must be received by November 14, 2024.

ADDRESSES: This meeting will be held in-person at TSA Headquarters, located at 6595 Springfield Center Drive, Springfield, Virginia 20598, and virtually via Microsoft Teams. See Public Participation below for information on how to register to attend the meeting. Attendance information will be provided upon registration.

FOR FURTHER INFORMATION CONTACT: Gary Click, Surface Transportation Security Advisory Committee, Designated Federal Officer, U.S. Department of Homeland Security, Transportation Security Administration, 6595 Springfield Center Drive, Springfield, Virginia, 20598, STSAC@tsa.dhs.gov, 571-227-5866.

SUPPLEMENTARY INFORMATION:

Background

Section 1969 of the TSA Modernization Act,¹ established the STSAC to advise, consult with, report to, and make recommendations to the TSA Administrator on surface transportation security matters, including the development, refinement, and implementation of policies, programs, initiatives, rulemakings, and security directives pertaining to surface transportation security. The STSAC also considers risk-based security approaches in the performance of its duties. While section 1969(f) exempts the STSAC from the Federal Advisory Committee Act,² paragraph 1969(c)(6)(B) requires that TSA hold at least one public meeting each year.

¹ Division K of the FAA Reauthorization Act of 2018, Public Law 115-254 (132 Stat. 3186; Oct. 5, 2018), codified at 6 U.S.C. 204.

² 5 U.S.C. ch. 10.

Meeting Agenda

• Welcoming remarks and introductions

• Committee and subcommittee briefings on activities, key issues, and focus areas (cybersecurity information sharing; emergency management and resiliency; insider threat; and security risk and intelligence)

• Public comments

• Closing comments and adjournment

Public Participation

The meeting will be open to the public via Microsoft Teams and attendance may be limited due to Microsoft Teams meeting constraints. Members of the public who wish to participate are asked to register via email by submitting their name, contact number, and affiliation (if applicable) to STSAC@tsa.dhs.gov by November 14, 2024. Attendees will be admitted on a first-to-register basis. Attendance information will be provided upon registration.

Members of the public wishing to present oral or written statements must make advance arrangements by November 14, 2024. The statements must specifically address issues pertaining to the items listed in Meeting Agenda discussed above. Advance requests to present and/or written statements must be submitted via email to STSAC@tsa.dhs.gov. Oral presenters are requested to limit their comments to 3 minutes.

The STSAC and TSA are committed to providing equal access to this meeting for all participants. If you need alternative formats or services because of a disability, please contact the individual listed in the FOR FURTHER INFORMATION CONTACT section by November 14, 2024.

Dated: October 16, 2024.
Eddie D. Mayenschein,
Assistant Administrator, Policy, Plans, and Engagement.

[FR Doc. 2024-24487 Filed 10-22-24; 8:45 am]

BILLING CODE 9110-05-P